DEPARTMENT OF DEFENSE

Department of the Air Force

Proposed Aircraft Conversion of the 167th Airlift Wing (AW) of West Virginia Air National Guard (ANG), Eastern West Virginia Regional Airport (EWVRA), Martinsburg, WV

ACTION: Record of Decision (ROD).

SUMMARY: On September 3, 2004, the United States Air Force signed the ROD for the Proposed Aircraft Conversion of the 167th AW of West Virginia ANG, EWVRA, Martinsburg, West Virginia. The Department of the Air Force is issuing the ROD to convert from the existing transport fleet of C-130H aircraft used by the 167 AW of WV ANG to the larger C-5 aircraft. The action that will be implemented consists of: (1) Conversion from the C-130H to the C-5 aircraft; (2) acquisition of land (approximately 135 acres) via lease; and (3) construction of facilities on the existing and acquired parcels. When implemented, this action will result in construction of new aircraft hangers and related maintenance and training facilities, lengthening of Runway 08/26, and closure of Runway 17/35.

The decision was based on matters discussed in the ROD, the Final EIS, inputs from the public and regulatory agencies, and other relevant factors. The Final EIS was made available on July 30, 2004 in the Federal Register: (Volume 69, Number 146, Page 5708) with a waiting period ending August 30, 2004. The Air Force was the National Environmental Policy Act (NEPA) lead agency with the Federal Aviation Administration (FAA) acting as a Cooperating Agency under NEPA. The ROD documents only the decision of the Air Force with respect to the proposed Air Force actions analyzed in the Final EIS.

FOR FURTHER INFORMATION CONTACT: Ray Detig, Air National Guard Readiness Center/Civil Engineering Directorate, (301) 836-8120, or Pat Vokoun, Headquarters United States Air Force, (703) 604-5263.

Pamela D. Fitzgerald,
Air Force Federal Register Liaison Officer.

[FR Doc. 04-21367 Filed 9-22-04; 8:45 am]

BILLING CODE 5001-05-P